FEDERAL HOUSING FINANCE BOARD

[No. 2007-N-12]

Federal Home Loan Bank Members Selected for Community Support Review

AGENCY: Federal Housing Finance Board.

ACTION: Notice.

SUMMARY: The Federal Housing Finance Board (Finance Board) is announcing the Federal Home Loan Bank (Bank) members it has selected for the 2006-07 seventh quarter review cycle under the Finance Board's community support requirements regulation. This notice also prescribes the deadline by which Bank members selected for review must submit Community Support Statements to the Finance Board.

DATES: Bank members selected for the review cycle under the Finance Board's community support requirements regulation must submit completed Community Support Statements to the Finance Board on or before November 30, 2007.

ADDRESSES: Bank members selected for the 2006-07 seventh quarter review cycle under the Finance Board's community support requirements regulation must submit completed Community Support Statements to the Finance Board either by regular mail at the Federal Housing Finance Board, Office of Supervision, Community Investment and Affordable Housing, 1625 Eye Street, NW., Washington, DC 20006, or by electronic mail at FITZGERALDE@FHFB.GOV.

FOR FURTHER INFORMATION CONTACT: Emma J. Fitzgerald, Program Analyst, Office of Supervision, Community Investment and Affordable Housing, by telephone at 202/408-2874, by electronic mail at FITZGERALDE@FHFB.GOV, or by regular mail at the Federal Housing Finance Board, 1625 Eye Street, NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the November 30, 2007 deadline prescribed in this notice. 12 CFR 944.2(b)(1)(ii) and (c). On or before October 26, 2007, each Bank will notify the members in its district that have been selected for the 2006-07 seventh quarter community support review cycle that they must complete and submit to the Finance Board by the deadline a Community Support Statement. 12 CFR 944.2(b)(2)(i). The member's Bank will provide a blank Community Support Statement Form, which also is available on the Finance Board's Web site: http://WWW.FHFB.GOV.

Upon request, the member's Bank also will provide assistance in completing the Community Support Statement.

The Finance Board has selected the following members for the 2006-07 seventh quarter community support review cycle:

Federal Home Loan Bank of Boston—District 1
First New England Federal Credit Union | East Hartford | Connecticut
Ledge Light Federal Credit Union | Groton | Connecticut
Connecticut Community Bank, N.A | Norwalk | Connecticut
Eastern Federal Bank | Norwich | Connecticut
Putnam Savings Bank | Putnam | Connecticut
Merrill Merchants Bank | Bangor | Maine
Seaboard Federal Credit Union | Bucksport | Maine
Union Trust Company | Ellsworth | Maine
NorState Federal Credit Union | Madawaska | Maine
Norway Savings Bank | Norway | Maine
Infinity Federal Credit Union | Westbrook | Maine
Belmont Savings Bank | Belmont | Massachusetts
University Credit Union | Boston | Massachusetts
The Lenox National Bank | Lenox | Massachusetts
Enterprise Bank and Trust Company | Lowell | Massachusetts
Butler Bank, a Co-operative Bank | Lowell | Massachusetts
Northmark Bank | North Andover | Massachusetts
RTN Federal Credit Union | Waltham | Massachusetts
Commerce Bank & Trust Company | Worcester | Massachusetts
Chittenden Trust Company | Burlington | Vermont
New England Federal Credit Union | Williston | Vermont

Federal Home Loan Bank of New York—District 2
Affinity Federal Credit Union | Basking Ridge | New Jersey
Boardwalk Bank | Linwood | New Jersey
Millville Savings and Loan Association | Millville | New Jersey
Hudson City Savings Bank | Paramus | New Jersey
Cenlar FSB | Trenton | New Jersey
Llewellyn-Edison Savings Bank, FSB | West Orange | New Jersey
Bank of Akron | Akron | New York
SEFCU | Albany | New York
Putnam County Savings Bank | Brewster | New York
First American International Bank | Brooklyn | New York
First State Bank | Canisteo | New York
Flushing Savings Bank | Flushing | New York
American Community Bank | Glen Cove | New York
Gouverneur Savings & Loan Association | Gouverneur | New York
Bank Leumi USA | New York | New York
HSBC Bank, USA | Rochester | New York
Reliant Community Credit Union | Sodus | New York
Empower Federal Credit Union | Syracuse | New York
Community Mutual Savings Bank | White Plains | New York
Hudson Valley Bank | Yonkers | New York
Firstbank Puerto Rico | Santurce | Puerto Rico
Bank of St. Croix | Christiansted | Virgin Islands

Federal Home Loan Bank of Pittsburgh—District 3
Lehman Brothers Bank, FSB | Wilmington | Delaware
AIG Federal Savings Bank | Wilmington | Delaware
Wilmington Trust Company | Wilmington | Delaware
First Columbia Bank & Trust Company | Bloomsburg | Pennsylvania
Fidelity Savings and Loan Association of Bucks County | Bristol | Pennsylvania
Citizens Savings Association | Clarks Summit | Pennsylvania
The Fidelity Deposit & Discount Bank | Dunmore | Pennsylvania
Fleetwood Bank | Fleetwood | Pennsylvania
Swineford National Bank | Hummels Wharf | Pennsylvania
S & T Bank | Indiana | Pennsylvania
Jonestown Bank and Trust Company | Jonestown | Pennsylvania
Susquehanna Bank PA | Lancaster | Pennsylvania
Commercial Bank & Trust of PA | Latrobe | Pennsylvania
Lafayette Ambassador Bank | LeHigh Valley | Pennsylvania
Members 1st Federal Credit Union | Mechanicsburg | Pennsylvania
The First National Bank of Mercersburg | Mercersburg | Pennsylvania
The Juniata Valley Bank | Mifflintown | Pennsylvania
Mid Penn Bank | Millersburg | Pennsylvania
Royal Bank America | Narberth | Pennsylvania
Merck, Sharp & Dohme Federal Credit Union | North Wales | Pennsylvania
Port Richmond Savings | Philadelphia | Pennsylvania
Dwelling House Savings and Loan Association | Pittsburgh | Pennsylvania
Citadel Federal Credit Union | Thorndale | Pennsylvania
The Turbotville National Bank | Turbotville | Pennsylvania
Woodlands Bank | Williamsport | Pennsylvania
The United Federal Credit Union | Morgantown | West Virginia
Jefferson Security Bank | Shepherdstown | West Virginia
First Choice American Community FCU | Weirton | West Virginia

Federal Home Loan Bank of Atlanta—District 4
Compass Bank | Birmingham | Alabama
Bank of Dadeville | Dadeville | Alabama
The Peoples Bank of Coffee County | Elba | Alabama
First Southern Bank | Florence | Alabama
Citizens Bank & Savings Company | Russellville | Alabama
Troy Bank & Trust Company | Troy | Alabama
The Bank of Tuscaloosa | Tuscaloosa | Alabama
State Bank and Trust | Winfield | Alabama
IDB-IIC Federal Credit Union | Washington | D.C
United States Senate FCU | Washington | D.C
Gilbraltar Private Bank & Trust Company | Coral Gables | Florida
Merchants and Southern Bank | Gainesville | Florida
Citrus Bank, National Association | North Miami | Florida
Ocala National Bank | Ocala | Florida
Bankers Insurance Company | St. Petersburg | Florida
Suncoast Schools Federal Credit Union | Tampa | Florida
First Choice Credit Union | West Palm Beach | Florida
CDC Federal Credit Union | Atlanta | Georgia
Bank of Camilla | Camilla | Georgia
PlantersFirst | Cordele | Georgia
Citizens Bank and Trust Company | Eastman | Georgia
United Bank and Trust Company | Gainesville | Georgia
The Gordon Bank | Gordon | Georgia
Citizens Community Bank | Hahira | Georgia
Georgia State Bank | Mableton | Georgia
The Patterson Bank | Patterson | Georgia
Pelham Banking Company | Pelham | Georgia
The Bank of Perry | Perry | Georgia
The Savannah Bank, N.A | Savannah | Georgia
The Park Avenue Bank | Valdosta | Georgia
Oconee State Bank | Watkinsville | Georgia
The First National Bank of Waynesboro | Waynesboro | Georgia
Fullerton Federal Savings Association | Baltimore | Maryland
First Mariner Bank | Baltimore | Maryland
Midstate Federal Savings & Loan Association | Baltimore | Maryland
Kosciuszko Federal Savings Bank | Baltimore | Maryland
The Johns Hopkins Federal Credit Union | Baltimore | Maryland
The Washington Savings Bank, F.S.B | Bowie | Maryland
The Centreville National Bank of Maryland | Centreville | Maryland
The Columbia Bank | Columbia | Maryland
Mercantile County Bank | Elkton | Maryland
The Bank of Glen Burnie | Glen Burnie | Maryland
Cedar Point Federal Credit Union | Lexington Park | Maryland
Sandy Spring Bank | Olney | Maryland
Prince George's Federal Savings Bank | Upper Marlboro | Maryland
Belmont Federal Savings and Loan Association | Belmont | North Carolina
Black Mountain Savings Bank, S.S.B | Black Mountain | North Carolina
Coastal Federal Credit Union | Raleigh | North Carolina
Security Savings Bank, SSB | Southport | North Carolina
Bank of North Carolina | Thomasville | North Carolina
Clover Community Bank | Clover | South Carolina
The Peoples National Bank | Easley | South Carolina
Carolina First Bank | Greenville | South Carolina
Williamsburg First National Bank | Kingstree | South Carolina
Provident Community Bank, N.A | Union | South Carolina
Arthur State Bank | Union | South Carolina
Union Bank & Trust Company | Bowling Green | Virginia
First National Bank | Christiansburg | Virginia
The National Bank of Fredericksburg | Fredericksburg | Virginia
Bank of McKenney | McKenney | Virginia
Greater Atlantic Bank | Reston | Virginia
Farmers and Merchants Bank | Timberville | Virginia

Federal Home Loan Bank of Cincinnati—District 5
Union National Bank & Trust Company | Barbourville | Kentucky
Bank of Benton | Benton | Kentucky
Taylor County Bank | Campbellsville | Kentucky
First Federal Savings Bank of Elizabethtown | Elizabethtown | Kentucky
Commonwealth Community Bank | Hartford | Kentucky
The Citizens Bank | Hickman | Kentucky
The First State Bank | Irvington | Kentucky
Whitaker Bank, NA | Lexington | Kentucky
Cumberland Valley National Bank and Trust Company | London | Kentucky
Inez Deposit Bank, FSB | Louisa | Kentucky
River City Bank | Louisville | Kentucky
Citizens Bank of New Liberty | New Liberty | Kentucky
Citizens National Bank of Paintsville | Paintsville | Kentucky
West Point Bank | Radcliff | Kentucky
Sebree Deposit Bank | Sebree | Kentucky
The Peoples Bank | Taylorsville | Kentucky
United Bank & Trust Company | Versailles | Kentucky
The Farmers & Merchants State Bank | Archbold | Ohio
The Citizens Bank of Ashville | Ashville | Ohio
The Caldwell Savings and Loan Company | Caldwell | Ohio
CINCO Federal Credit Union, Inc | Cincinnati | Ohio
Century Federal Credit Union | Cleveland | Ohio
The Pioneer Savings Bank | Cleveland | Ohio
Clyde-Findlay Area Credit Union | Clyde | Ohio
First Federal Savings and Loan Association of Delta | Delta | Ohio
Ohio Central Savings | Dublin | Ohio
The Croghan Colonial Bank | Fremont | Ohio
First Service Federal Credit Union | Groveport | Ohio
The Killbuck Savings Bank Company | Killbuck | Ohio
The Old Fort Banking Company | Old Fort | Ohio
The Security National Bank and Trust Company | Springfield | Ohio
The First National Bank of Wellston | Wellston | Ohio
The Wayne Savings Community Bank | Wooster | Ohio
Brighton Bank | Brighton | Tennessee
First Federal Savings Bank | Clarksville | Tennessee
Peoples Bank | Clifton | Tennessee
Bank of Dickson | Dickson | Tennessee
Security Bank | Dyersburg | Tennessee
Greeneville Federal Bank, fsb | Greeneville | Tennessee
Citizens Bank | Hartsville | Tennessee
Citizens Bank of Blount County | Maryville | Tennessee
The Bank of Fayette County | Moscow | Tennessee
ORNL Federal Credit Union | Oak Ridge | Tennessee
Merchants & Planters Bank | Toone | Tennessee
AEDC Federal Credit Union | Tullahoma | Tennessee

Federal Home Loan Bank of Indianapolis—District 6
Hendricks County Bank and Trust Company | Brownsburg | Indiana
First Farmers Bank & Trust Company | Converse | Indiana
Bank of Indiana | Dana | Indiana
Star Financial Bank | Fort Wayne | Indiana
Professional Federal Credit Union | Fort Wayne | Indiana
Springs Valley Bank & Trust Company | French Lick | Indiana
Garrett State Bank | Garrett | Indiana
Griffith Savings Bank | Griffith | Indiana
Indiana Members Credit Union | Indianapolis | Indiana
Eli Lilly Federal Credit Union | Indianapolis | Indiana
Dearborn Savings Bank | Lawrenceburg | Indiana
Farmers State Bank | Mentone | Indiana
The North Salem State Bank | North Salem | Indiana
Tri-County Bank & Trust Company | Roachdale | Indiana
Central Bank | Russiaville | Indiana
Teachers Credit Union | South Bend | Indiana
Bank of Lenawee | Adrian | Michigan
University Bank | Ann Arbor | Michigan
The Blissfield State Bank | Blissfield | Michigan
Byron Bank | Byron Center | Michigan
CSB Bank | Capac | Michigan
Independent Bank East Michigan | Caro | Michigan
Exchange State Bank | Carsonville | Michigan
First National Bank | Crystal Falls | Michigan
The State Savings Bank | Frankfort | Michigan
First Community Bank | Harbor Springs | Michigan
G.W. Jones Exchange Bank | Marcellus | Michigan
Shelby State Bank | Shelby | Michigan
ChoiceOne Bank | Sparta | Michigan

Federal Home Loan Bank of Chicago—District 7
State Bank of the Lakes | Antioch | Illinois
First National Bank | Ava | Illinois
Bridgeview Bank & Trust Company | Bridgeview | Illinois
Town & Country Bank | Buffalo | Illinois
Builders Bank | Chicago | Illinois
American Union Savings and Loan Association | Chicago | Illinois
LaSalle Bank N.A | Chicago | Illinois
First East Side Savings Bank | Chicago | Illinois
Park Federal Savings Bank | Chicago | Illinois
Cissna Park State Bank | Cissna Park | Illinois
National Bank | Hillsboro | Illinois
Farmers State Bank of Hoffman | Hoffman | Illinois
Community Trust Bank | Irvington | Illinois
First Midwest Bank | Itasca | Illinois
The Peoples National Bank | McLeansboro | Illinois
Midwest Bank of Western Illinois | Monmouth | Illinois
The Bank of Illinois in Normal | Normal | Illinois
Palos Bank and Trust Company | Palos Heights | Illinois
Citizens Equity First Credit Union | Peoria | Illinois
Freestar National Bank | Pontiac | Illinois
First Bankers Trust Company, N.A | Quincy | Illinois
First National Bank of Raymond | Raymond | Illinois
AMCORE Bank N.A | Rockford | Illinois
Cole Taylor Bank | Chicago | Illinois
First Neighbor Bank, N.A | Toledo | Illinois
Busey Bank | Urbana | Illinois
Fox Communities Credit Union | Appleton | Wisconsin
Unity Bank | Augusta | Wisconsin
First National Bank & Trust Company | Beloit | Wisconsin
Citizens State Bank | Cadott | Wisconsin
Denmark State Bank | Denmark | Wisconsin
Security National Bank | Durand | Wisconsin
Union Bank and Trust Company | Evansville | Wisconsin
Hometown Bank | Fond Du Lac | Wisconsin
State Bank Financial | La Crosse | Wisconsin
Trane Federal Credit Union | La Crosse | Wisconsin
Capitol Bank | Madison | Wisconsin
Park Bank | Madison | Wisconsin
Premier Community Bank | Marion | Wisconsin
Bay View Federal Savings and Loan Association | Milwaukee | Wisconsin
Farmers Savings Bank | Mineral Point | Wisconsin
Alliance Bank | Mondovi | Wisconsin
The Necedah Bank | Necedah | Wisconsin
Farmers Exchange Bank | Neshkoro | Wisconsin
Community State Bank | Union Grove | Wisconsin

Federal Home Loan Bank of Des Moines—District 8
Exchange State Bank | Ames | Iowa
Quad City Bank and Trust Company | Bettendorf | Iowa
NCMIC Insurance Company | Clive | Iowa
Security Savings Bank | Eagle Grove | Iowa
Iowa State Bank and Trust Company of Fairfield | Fairfield | Iowa
American National Bank | Holstein | Iowa
Home State Bank | Jefferson | Iowa
Security Savings Bank | Larchwood | Iowa
Farmers & Merchants Savings Bank | Manchester | Iowa
Pinnacle Bank | Marshalltown | Iowa
Northwoods State Bank | Mason City | Iowa
First Citizens National Bank | Mason City | Iowa
Pilot Grove Savings Bank | Pilot Grove | Iowa
Frontier Bank | Rock Rapids | Iowa
Citizens State Bank | Sheldon | Iowa
First National Bank of Farragut | Shenandoah | Iowa
Pinnacle Bank | Sioux City | Iowa
First Bank | West Des Moines | Iowa
Security Bank Minnesota | Albert Lea | Minnesota
First Security Bank | Byron | Minnesota
The Miners National Bank of Eveleth | Eveleth | Minnesota
Peoples State Bank | Plainview | Minnesota
First Security Bank—Sleepy Eye | Sleepy Eye | Minnesota
Bank Cherokee | St. Paul | Minnesota
The First National Bank in Wadena | Wadena | Minnesota
Wadena State Bank | Wadena | Minnesota
Peoples Bank | Cuba | Missouri
Century Bank of the Ozarks | Gainesville | Missouri
The Hamilton Bank | Hamilton | Missouri
Premier Bank | Jefferson City | Missouri
B & L Bank | Lexington | Missouri
Bank of Minden | Mindenmines | Missouri
Bank of Cairo and Moberly | Moberly | Missouri
St. Clair County State Bank | Osceola | Missouri
Platte Valley Bank of Missouri | Platte City | Missouri
Great Southern Bank | Reeds Springs | Missouri
Farmers State Bank of Northern Missouri | Savannah | Missouri
Central Bank of Missouri | Sedalia | Missouri
Mid-Missouri Bank | Springfield | Missouri
Gate City Bank | Fargo | North Dakota
State Bank of Alcester | Alcester | South Dakota
First American Bank & Trust, N.A | Sioux Falls | South Dakota

Federal Home Loan Bank of Dallas—District 9
Chambers Bank of North Arkansas | Fayette | Arkansas
First Federal Bank of Arkansas | Harrison | Arkansas
Simmons First Bank of Jonesboro | Jonesboro | Arkansas
Simmons First Bank of Russellville | Russellville | Arkansas
Warren Bank & Trust Company | Warren | Arkansas
First Bank and Trust | Baton Rouge | Louisiana
Mississippi River Bank | Belle Chasse | Louisiana
Citizens Savings Bank | Bogalusa | Louisiana
Homeland Federal Savings Bank | Columbia | Louisiana
Peoples State Bank of Many | Many | Louisiana
City Bank & Trust Company | Natchitoches | Louisiana
ANECA Federal Credit Union | Shreveport | Louisiana
Bank of Anguilla | Anguilla | Mississippi
Guaranty Bank and Trust Company | Belzoni | Mississippi
Heritage Banking Group | Carthage | Mississippi
First National Bank of Clarksdale | Clarksdale | Mississippi
Bank of Forest | Forest | Mississippi
Hancock Bank | Gulfport | Mississippi
Merchants and Farmers Bank | Kosciusko | Mississippi
PriorityOne Bank | Magee | Mississippi
First National Bank of Picayune | Picayune | Mississippi
The Peoples Bank | Ripley | Mississippi
First National Bank in Alamogordo | Alamogordo | New Mexico
First Community Bank | Albuquerque | New Mexico
New Mexico Educators Federal Credit Union | Albuquerque | New Mexico
Herring Bank | Amarillo | Texas
University Federal Credit Union | Austin | Texas
Citizens National Bank at Brownwood | Brownwood | Texas
Columbus State Bank | Columbus | Texas
Graham Savings & Loan, FA | Graham | Texas
MemberSource Credit Union | Houston | Texas
American State Bank | Lubbock | Texas
American Bank of Texas, N.A | Marble Falls | Texas
First Bank & Trust of Memphis | Memphis | Texas
Liberty National Bank in Paris | Paris | Texas
Security State Bank | Pearsall | Texas
HCSB, a State Banking Association | Plainview | Texas
1st International Bank | Plano | Texas
Legacy Texas Bank | Plano | Texas
Share Plus Federal Bank | Plano | Texas
First Community Bank, NA | San Benito | Texas
Peoples State Bank | Sheperd | Texas
Texas Savings Bank, s.s.b | Snyder | Texas
Mainland Bank | Texas City | Texas
Texas Star Bank | Van Alstyne | Texas

Federal Home Loan Bank of Topeka—District 10
FirstBank of Arapahoe County | Centennial | Colorado
Bank of Colorado | Fort Collins | Colorado
Alpine Bank | Glenwood Springs | Colorado
First National Bank of Las Animas | Las Animas | Colorado
Mancos Valley Bank | Mancos | Colorado
The Pueblo Bank and Trust Company | Pueblo | Colorado
High Country Bank | Salida | Colorado
Fidelity State Bank and Trust Company | Dodge City | Kansas
Armed Forces Bank | Fort Leavenworth | Kansas
First National Bank and Trust Company | Junction City | Kansas
First State Bank of Kansas City, Kansas | Kansas City | Kansas
Heartland Bank | Leawood | Kansas
Premier Bank | Lenexa | Kansas
Metcalf Bank | Overland Park | Kansas
TeamBank, N.A | Paola | Kansas
Community National Bank | Seneca | Kansas
Mid American Credit Union | Wichita | Kansas
Five Points Bank | Grand Island | Nebraska
First State Bank | Lincoln | Nebraska
First Bank & Trust Company of Minden | Minden | Nebraska
Four Points Federal Credit Union | Omaha | Nebraska
Plattsmouth State Bank | Plattsmouth | Nebraska
The Jones National Bank & Trust Company | Seward | Nebraska
First National Bank of Wahoo | Wahoo | Nebraska
Vision Bank, N.A | Ada | Oklahoma
Community Bank | Alva | Oklahoma
American National Bank | Ardmore | Oklahoma
First Bethany Bank and Trust, N.A | Bethany | Oklahoma
First BankCentre | Broken Arrow | Oklahoma
Farmers and Merchants Bank | Crescent | Oklahoma
Alva State Bank & Trust Company | Enid | Oklahoma
The Eastman National Bank of Newkirk | Newkirk | Oklahoma
Oklahoma Employees Credit Union | Oklahoma City | Oklahoma
First National Bank of Okmulgee | Okmulgee | Oklahoma
First State Bank | Picher | Oklahoma
F & M Bank, NA | Piedmont | Oklahoma
McClain Bank, NA | Purcell | Oklahoma
Tinker Federal Credit Union | Tinker AFB | Oklahoma
Oklahoma Central Credit Union | Tulsa | Oklahoma
SpiritBank | Tulsa | Oklahoma
Welch State Bank | Welch | Oklahoma

Federal Home Loan Bank of San Francisco—District 11
Mesa Bank | Mesa | Arizona
Desert Schools Federal Credit Union | Phoenix | Arizona
Camelback Community Bank | Phoenix | Arizona
Bank of Tucson | Tucson | Arizona
Southern Arizona Community Bank | Tucson | Arizona
Cathay Bank | Los Angeles | California
Stanford Federal Credit Union | Palo Alto | California
CBC Federal Credit Union | Port Hueneme | California
Gateway Bank, AFSB | San Francisco | California
Chinatrust Bank USA | Torrance | California
Visalia Community Bank | Visalia | California
Community Bank of Nevada | Las Vegas | Nevada
Ensign Federal Credit Union | Las Vegas | Nevada

Federal Home Loan Bank of Seattle—District 12
Hawaii USA Federal Credit Union | Honolulu | Hawaii
Idaho Banking Company | Boise | Idaho
Farmers National Bank | Buhl | Idaho
Valley Bank of Kalispell | Kalispell | Montana
Mountain West Bank of Kalispell, N.A | Kalispell | Montana
First National Bank of Montana, Inc | Libby | Montana
First Technology Credit Union | Beaverton | Oregon
Bank of the Cascades | Bend | Oregon
Siuslaw Bank | Eugene | Oregon
Advantis Credit Union | Milwaukie | Oregon
Umpqua Bank | Roseburg | Oregon
Clackamas County Bank | Sandy | Oregon
Lewiston State Bank | Lewiston | Utah
First National Bank of Morgan | Morgan | Utah
Goldenwest Credit Union | Ogden | Utah
Bank of Utah | Ogden | Utah
Western Community Bank | Orem | Utah
American Bank of Commerce | Provo | Utah
Escrow Bank USA | Salt Lake City | Utah
First Utah Bank | Salt Lake City | Utah
Heritage Bank | St. George | Utah
North County Bank | Arlington | Washington
Industrial Credit Union of Whatcom County | Bellingham | Washington
Cashmere Valley Bank | Cashmere | Washington
Mt. Rainier National Bank | Enumclaw | Washington
Northwest Plus Credit Union | Everett | Washington
Rainier Pacific Bank | Fife | Washington
Watermark Credit Union | Seattle | Washington
Verity Credit Union | Seattle | Washington
First Heritage Bank | Snohomish | Washington
Horizon Credit Union | Spokane | Washington
Warren Federal Credit Union | Cheyenne | Wyoming
State Bank of Green River | Green River | Wyoming
Bank of Jackson Hole | Jackson | Wyoming
Central Bank & Trust | Lander | Wyoming
Sheridan State Bank | Sheridan | Wyoming
First Federal Savings Bank | Sheridan | Wyoming

II. Public Comments

To encourage the submission of public comments on the community support performance of Bank members, on or before the October 26, 2007, each Bank will notify its Advisory Council and nonprofit housing developers, community groups, and other interested parties in its district of the members selected for community support review in the 2006-07 seventh quarter review cycle. 12 CFR 944.2(b)(2)(ii). In reviewing a member for community support compliance, the Finance Board will consider any public comments it has received concerning the member. 12 CFR 944.2(d). To ensure consideration by the Finance Board, comments concerning the community support performance of members selected for the 2006-07 seventh quarter review cycle must be delivered to the Finance Board on or before the November 30, 2007 deadline for submission of Community Support Statements.

Neil R. Crowley,
Acting General Counsel.

[FR Doc. 07-5058 Filed 10-11-07; 8:45 am]

BILLING CODE 6725-01-P